DEPARTMENT OF HOMELAND SECURITY

Coast Guard

33 CFR Part 117

[Docket No. USCG-2009-0670]

Drawbridge Operating Regulations; Franklin Canal, Franklin, LA

AGENCY: Coast Guard, DHS.

ACTION: Notice of temporary deviation from regulations; request for comments.

SUMMARY: The Commander, Eighth Coast Guard District, has issued a temporary deviation from the regulation governing the operation of the Chatsworth Road Bridge across the Franklin Canal, mile 4.8, at Franklin, St. Mary Parish, Louisiana. This deviation will test a change to the operating schedule to determine whether a permanent change to the schedule is needed. It will allow the bridge to remain unmanned during most of the day by requiring a one-hour notice for an opening of the draw.

DATES: This deviation is effective from 5 a.m. on August 19, 2009 until 9 p.m. on February 16, 2010. Comments and related material must be received by the Coast Guard on or before October 19, 2009.

ADDRESSES: You may submit comments identified by docket number USCG-2009-0670 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-355-9329.

To avoid duplication, please use only one of these methods. See “Public Participation and Request for Comments” portion of the SUPPLEMENTARY INFORMATION section below for instructions on submitting comments.

FOR FURTHER INFORMATION CONTACT: If you have questions on this rule, call or e-mail Phil Johnson, Bridge Administration Branch, Eighth Coast Guard District; telephone 504-671-2128, e-mail Philip.R.Johnson@uscg.mil. If you have questions on viewing or submitting material to the docket, call Renee V. Wright, Program Manager, Docket Operations, telephone 202-366-9826.

SUPPLEMENTARY INFORMATION:

Public Participation and Request for Comments

We encourage you to participate in this rulemaking by submitting comments and related materials. All comments received will be posted, without change, to http://www.regulations.gov and will include any personal information you have provided.

Submitting Comments

If you submit a comment, please include the docket number for this rulemaking (USCG-2009-0670), indicate the specific section of this document to which each comment applies, and provide a reason for each suggestion or recommendation. You may submit your comments and material online (http://www.regulations.gov), or by fax, mail or hand delivery, but please use only one of these means. If you submit a comment online via http://www.regulations.gov, it will be considered as having been received by the Coast Guard when you successfully transmit the comment. If you fax, hand deliver, or mail your comment, it will be considered as having been received by the Coast Guard when it is received at the Docket Management Facility. We recommend that you include your name and a mailing address, an e-mail address, or a phone number in the body of your document so that we can contact you if we have questions regarding your submission.

To submit your comment online, go to http://www.regulations.gov, click on the “submit a comment” box, which will then become highlighted in blue. In the “Keyword” box insert “USCG-2009-0670” click “Search” and then click on the balloon shape in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period and may change the rule based on your comments.

Viewing Comments and Documents

To view comments, as well as documents mentioned in this preamble as being available in the docket, go to http://www.regulations.gov, click on the “read comments” box, which will then become highlighted in blue. In the “Keyword” box insert “USCG-2009-0670” and click “Search.” Click the “Open Docket Folder” in the “Actions” column. You may also visit either the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not now plan to hold a public meeting. But you may submit a request for one on or before September 3, 2009.

Background and Purpose

The St. Mary Parish Government has requested that the operating regulation of the Chatsworth Road swing span bridge, located on the Franklin Canal at mile 4.8 in Franklin, St. Mary Parish, Louisiana, be changed in order for the bridge not to have to be continuously manned by a draw tender. Currently, the bridge opens on signal from 5 a.m. to 9 p.m. Because of the relocation of a public boat landing downstream of the bridge, vessel traffic has become infrequent, and it is no longer necessary to have a bridge tender continuously man the bridge.

Currently, the bridge operates as follows: The draw of the Chatsworth Road Bridge, mile 4.8 at Franklin, shall open on signal from 5 a.m. to 9 p.m. From October 1 through January 31 from 9 p.m. to 5 a.m., the draw shall open on signal if at least three hours notice is given. From February 1 through September 30 from 9 p.m. to 5 a.m., the draw shall open on signal if at least 12 hours notice is given.

This Temporary Deviation from Drawbridge Operating Regulations allows the bridge to operate as follows: The draw of the Chatsworth Road Bridge, mile 4.8 at Franklin, shall open on signal from 5 a.m. to 9 p.m. if at least one hour notice is given. From October 1 through January 31 from 9 p.m. to 5 a.m., the draw shall open on signal if at least three hours notice is given. From February 1 through September 30 from 9 p.m. to 5 a.m., the draw shall open on signal if at least 12 hours notice is given.

While some commercial vessels use the waterway to access commercial facilities upstream of the bridge, they are able to schedule operations around the advance notices required for an opening. The majority of waterway usage consists of small recreational fishing craft that now utilize the boat launch that has been relocated downstream of the bridge. The bridge provides a vertical clearance of 7 feet above mean high water in the closed-to-navigation position and unlimited in the open-to-navigation position. Thus, the majority of recreational fishing craft that may wish to transit through the bridge will be able to do so without requesting an opening of the draw.

A Notice of Proposed Rule Making [USCG-2009-0672] is being issued in conjunction with this Temporary Deviation to obtain public comments. The St. Mary Parish Government states that the decrease in vessel traffic, due to the relocation of the boat ramp downstream of the bridge, has resulted in such infrequency of drawbridge openings that it is impractical to man the bridge full time from 5 a.m. to 9 p.m. daily. A bridge tender will be on call to open the bridge with a one-hour notice by calling the telephone number that will be posted on the bridge. The Coast Guard will evaluate public comments from this Temporary Deviation and the above referenced Notice of Proposed Rule Making to determine if a change to the permanent special drawbridge operating regulation is warranted.

In accordance with 33 CFR 117.35(e), the drawbridge must return to its regular operating schedule immediately at the end of the designated period. This deviation from the operating regulations is authorized under 33 CFR 117.35.

Dated: August 4, 2009.
David M. Frank,
Bridge Administrator.

[FR Doc. E9-19824 Filed 8-18-09; 8:45 am]

BILLING CODE 4910-15-P